DEPARTMENT OF TRANSPORTATION

Surface Transportation Board

[STB Finance Docket No. 35218]

Meridian Southern Railway, LLC—Construction of Connecting Track Exemption—in Lauderdale County, MS

Meridian Southern Railway, LLC (MDS) has filed a verified notice of exemption under 49 CFR 1150.36 to construct approximately 1,910 feet of track in Lauderdale County, MS. The track to be constructed will extend from the existing MDS track near Interchange Road to a yard track (designated Number 4 track) in the existing Norfolk Southern Railway Company (NS) rail yard near NS milepost 3.2 in Meridian, MS. The track to be constructed will connect MDS to the NS main line, whereas MDS currently connects only to the Kansas City Southern Railway Company main line. The connection will be constructed within existing rail rights-of-way (owned either by MDS or NS) and within an acquired railroad easement.

Since MDS acquired its rail line in 2000,¹ MDS has served several major customers on the line, including the Marshall Durbin Poultry complex at Waynesboro, the Hood Lumber Company at Waynesboro, Georgia Pacific at Meridian, and Atlas Roofing at Meridian. MDS also serves a number of smaller customers including Bazor Lumber Company in Quitman, Scotch Plywood in Waynesboro, Culbreth Timber Company in Quitman, and Southwood Door Company in Quitman. MDS anticipates that the proposed connecting track will provide these existing shippers and consignees with improved access to the national rail system by the addition of a routing option with more efficient flow and adding price competition. MDS anticipates that the proposed connection will encourage increased shipments from existing customers and foster new economic development in the East Mississippi area served by MDS.

¹ See Meridian Southern Railway, LLC—Acquisition and Operation—Lines of Kansas City Southern Railway Company, STB Finance Docket No. 33854 (STB served Aug. 29, 2000).

Construction is proposed to begin no earlier than 90 days after the filing of this notice of exemption.

MDS has certified that it has complied with the Board's environmental rules at 49 CFR 1105 and with the pre-filing notice requirements at 49 CFR 1150.36(c)(1).

MDS has submitted environmental and historic reports required under 49 CFR 1105.7 and 1105.8. Under 49 CFR 1150.36(c)(3), the Board's Section of Environmental Analysis (SEA) will generally issue an environmental assessment (EA) 15 days after the Federal Register notice, here by July 30, 2009. However, under 49 CFR 1150.36(c)(10), a stay of the effective date may be issued if an informed decision on environmental issues cannot be made prior to September 23, 2009.² Interested persons may obtain a copy of the EA by writing to SEA (Room 1100, Surface Transportation Board, Washington, DC 20523-0001) or by calling SEA, at (202) 245-0305. Assistance for the hearing impaired is available through the Federal Information Relay Service (FIRS) at 1-800-877-8339. Comments on environmental and historic preservation matters must be filed within 30 days after the EA becomes available to the public.

² See Exemption of Out-of-Service Rail Lines, 5 I.C.C.2d 377 (1989).

On completion of the environmental review, the Board will issue a decision addressing those matters and making the exemption effective at that time, if appropriate, subject to any necessary conditions, thereby allowing construction to begin.

This exemption will be effective on September 23, 2009, unless stayed. Petitions to stay that do not involve environmental issues must be filed by July 24, 2009. Petitions for reconsideration must be filed by August 4, 2009.

Pursuant to the Consolidated Appropriations Act, 2008, Public Law 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the transaction.

Any original and 10 copies of all pleadings, referring to STB Finance Docket No. 35218, must be filed with the Surface Transportation Board, 395 E Street, SW., Washington, DC 20423-0001. In addition, a copy of each pleading must be served on Kevin M. Shays, K&L Gates LLP, 1601 K Street, NW., Washington, DC 20006.

Board decisions and notices are available on our Web site at http://www.stb.dot.gov.

Decided: July 8, 2009.
By the Board, Rachel D. Campbell, Director, Office of Proceedings.
Jeffrey Herzig,
Clearance Clerk.

[FR Doc. E9-16636 Filed 7-10-09; 8:45 am]

BILLING CODE 4915-01-P